DEPARTMENT OF TRANSPORTATION

National Highway Traffic Safety Administration

[Docket No. NHTSA-2014-0081]

Reports, Forms, and Recordkeeping Requirements: Agency Information Collection Activity

AGENCY: National Highway Traffic Safety Administration (NHTSA), Department of Transportation (DOT).

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections. This document describes one collection of information for which NHTSA intends to seek OMB approval.

DATES: Comments must be received on or before September 5, 2014.

ADDRESSES: Refer to the docket notice number cited at the beginning of this notice and send your comments by any of the following methods:

• Federal eRulemaking Portal: Go to http://www.regulations.gov. Follow the instructions for submitting comments.

• Fax: 202-493-2251.

• Mail: U.S. Department of Transportation, Docket Operations, M- 30, West Building Ground Floor, Room W12-140, 1200 New Jersey Ave. SE., Washington, DC 20590.

• Hand Delivery: U.S. Department of Transportation, Docket Operations, M-30, West Building Ground Floor, Room W12-140, 1200 New Jersey Ave. SE., Washington, DC 20590, between 9 a.m. and 5 p.m., Monday through Friday, except Federal holidays.

Instructions: All submissions must include the agency name and docket number. Note that all comments received will be posted without change to http://www.regulations.gov, including any personal information provided. Please see the Privacy Act discussion below. We will consider all comments received before the close of business on the comment closing date indicated above. To the extent possible, we will also consider comments filed after the closing date.

Docket: For access to the docket to read background documents or comments received, go to http://www.regulations.gov at any time or to 1200 New Jersey Avenue SE., West Building Ground Floor, Room W12-140, Washington, DC 20590, between 9 a.m. and 5 p.m., Monday through Friday, except Federal Holidays. Telephone: (202) 366-9826.

Privacy Act: Anyone is able to search the electronic form of all comments received into any of our dockets by the name of the individual submitting the comment (or signing the comment, if submitted on behalf of an association, business, labor union, etc.). You may review DOT's complete Privacy Act Statement in the Federal Register published on April 11, 2000, (Volume 65, Number 70; Pages 19477-78) or you may visit http://www.dot.gov/privacy.html.

Confidential Business Information: If you wish to submit any information under a claim of confidentiality, you should submit three copies of your complete submission, including the information you claim to be confidential business information, to the Chief Counsel, NHTSA, at 1200 New Jersey Ave. SE., Washington, DC 20590. In addition, you should submit two copies, from which you have deleted the claimed confidential business information, to Docket Management at the address given above. When you send a comment containing information claimed to be confidential business information, you should include a cover letter setting forth the information specified in our confidential business information regulation (49 CFR part 512).

FOR FURTHER INFORMATION CONTACT: Charlene Doyle., Contracting Officer's Technical Representative, Office of Regulatory Analysis and Evaluation, National Highway Traffic Safety Administration, 1200 New Jersey Ave. SE., NVS-431, Washington, DC 20590. Ms. Doyle's phone number is 202-366-1276 and her email address is charlene.doyle@dot.gov.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following: (i) Whether the proposed collection of information is necessary for the proper performance of the functions of the agency, including whether the information will have practical utility; (ii) The accuracy of the agency's estimate of the burden of the proposed collection of information, including the validity of the methodology and assumptions used; (iii) How to enhance the quality, utility, and clarity of the information to be collected; and (iv) How to minimize the burden of the collection of information on those who are to respond, including the use of appropriate automated, electronic, mechanical, or other technological collection techniques or other forms of information technology, e.g., permitting electronic submissions of responses. In compliance with these requirements, NHTSA asks public comment on the following proposed collection of information:

Title: Tire Pressure Monitoring System—Outage Rates and Repair Costs Study (TPMS-ORRC)

Type of Request: Reinstatement, with change, of a previously approved collection for which approval has expired.

OMB Clearance Number: 2127-0626

Form Number: This collection of information uses no standard forms.

Required Expiration Date of Approval: Three years from the date of approval by OMB (i.e., estimated date of January 2018).

Abstract. Improperly inflated tires pose a safety risk, increasing the chance of skidding, hydroplaning, longer stopping distances, and crashes due to flat tires and blowouts. Section 13 of the Transportation Recall Enhancement, Accountability, and Documentation (TREAD) Act, which Congress passed on November 1, 2000, directed NHTSA to conduct rulemaking actions to revise and update the Federal motor vehicle safety standards for tires, to improve labeling on tires, and to require a system in new motor vehicles that warns the operator when a tire is significantly underinflated.

Tire Pressure Monitoring Systems (TPMS) were mandated in Federal Motor Vehicle Safety Standard (FMVSS) No. 138, so that drivers are warned when the pressure in one or more of the vehicle's tires has fallen to 25 percent or more below the placard pressure, or a minimum level of pressure specified in the standard, whichever pressure is higher, and may be informed about which of the four tires is underinflated. As of September 1, 2007, after a phase-in period beginning on October 5, 2005, TPMS was required on all new light vehicles (i.e., passenger cars, trucks, multipurpose passenger vehicles, and buses with a gross vehicle weight rating of 10,000 pounds or less, except those vehicles with dual wheels on an axle).

Executive Order 12866 requires Federal agencies to evaluate their existing regulations and programs and measure their effectiveness in achieving their objectives. Since the phase-in of TPMS, there has been only one evaluation of TPMS. The TPMS-SS (OMB #2127-0626) was conducted in 2011, as a special study through the infrastructure of the National Automotive Sampling System (NASS), to collect nationally representative data on how effective TPMS was in reducing underinflation in the on-road fleet of passenger vehicles. Analysis of the survey results indicated that direct TPMS is 55.6-percent effective at preventing severe underinflation as defined in FMVSS No. 138. However, effectiveness was substantially lower in vehicles that were 6-7 years old at the time of the survey. One explanation as to why this is true was the possibility that the drivers of these older vehicles were not taking all the maintenance actions (e.g., adding TPMS sensors to new vehicle tires, replacing non-functioning sensors on current tires, having the system properly re-set when needed) that were needed in order to insure that they had functioning TPMS. Relevant data is needed to examine why the effectiveness of TPMSs in older vehicles is reduced and what can be done to increase it.

Description of the Likely Respondents (Including Estimated Number, and Proposed Frequency of Response to the Collection of Information): This information collection will be completed via three separate surveys:

Field Survey of Drivers and Vehicles. A survey of convenience, conducted in eight sites (two sites in each of 4 states—Colorado, Texas, Washington, Virginia), will collect 7,000 inspections of passenger vehicles of all model years from 2004 through the latest model year, as well as interviews of drivers of these vehicles. Focus will be on assessing the operating status of the TPMS in these vehicles and interviewing driver with and without operating TPMSs, regarding their knowledge about and habits related to the TPMS in their vehicle. Data collection is expected to take place over a six month period in the spring and summer of 2015, mainly at gas stations.

Suppliers Survey. Major suppliers of TPMS sensors and systems will be interviewed. Focus will be on TPMS repair and maintenance issues, as well as cost factors. Data collection is expected to take place early 2015 via a combination of telephone interviews, email, mail, and fax.

Repair Facilities Survey. A sample of 500 repair/maintenance facilities (e.g., automobile dealerships, tire chain stores, small service stations with attached repair shops) will be selected for a Computer-Assisted Telephone Interview (CATI), with the option of responding by mail, based upon the respondent's preference. Focus will be on assessing the lifespan of TPMS, common sources of TPMS malfunction, typical costs to repair/replace malfunctioning systems, and the factors considered by customers when deciding whether to repair or replace TPMSs that are not working. Data collection is expected to take place early 2015 mostly via telephone interviews.

Estimate of the Total Annual Reporting and Recordkeeping Burden Resulting From the Collection of Information: The total annual reporting and recordkeeping burden resulting from this collection of information is estimated to be 1,565 hours, as outlined below.

Field Survey of Drivers and Vehicles. NHTSA estimates that the average time to collect vehicle and driver data will be slightly over 10 minutes for each interview for the 7,000 survey respondents. Some additional time will be needed to conduct a pilot study and to describe the study to drivers who do not end up participating in the study. Consequently, the total respondent burden hours is estimated to be 1,365 hours. The respondents would not incur any reporting or record keeping costs from the information collection. For the drivers survey, respondents will be asked questions regarding their TPMSs, and all responses will be provided spontaneously. For the vehicle inspection, data will be obtained via observation.

Suppliers Survey. NHTSA estimates that the average time to collect data on the cost of TPMS parts and systems will be slightly over 20 minutes for each interview for the 45 respondents. Consequently, the total respondent burden hours is estimated to be 17 hours. The respondents would not incur any reporting or record keeping costs from the information collection. Information is only requested about records that the respondents already are keeping for their own purposes.

Repair Facilities Survey. NHTSA estimates that the average time to collect data on the types and costs of repairing TPMS will be slightly over 20 minutes for each interview for the 500 respondents. Consequently, the total respondent burden hours is estimated to be 183 hours. The respondents would not incur any reporting or record keeping costs from the information collection. Information is only requested about records that the respondents already are keeping for their own purposes.

Authority: The Paperwork Reduction Act, 44 U.S.C. chap. 35, as amended; and 49 CFR 1.95.

Terry T. Shelton,
Associate Administrator, National Center for Statistics and Analysis.

[FR Doc. 2014-15782 Filed 7-3-14; 8:45 am]

BILLING CODE 4910-59-P